POSTAL SERVICE

39 CFR Part 111

New Standards for Domestic Mailing Services

AGENCY: Postal Service™.

ACTION: Proposed rule.

SUMMARY: In October 2011, the Postal Service filed a notice of mailing services price adjustments with the Postal Regulatory Commission (PRC), effective on January 22, 2012. This proposed rule contains the revisions to Mailing Standards of the United States Postal Service, Domestic Mail Manual (DMM®) that we would adopt to implement the changes coincident with the price adjustments.

DATES: We must receive comments on or before November 23, 2011.

ADDRESSES: Mail or deliver written comments to the manager, Product Classification, U.S. Postal Service®, 475 L'Enfant Plaza, SW., Room 4446, Washington, DC 20260-5015. You may inspect and photocopy all written comments at USPS® Headquarters Library, 475 L'Enfant Plaza, SW., 11th Floor N, Washington, DC by appointment only between the hours of 9 a.m. and 4 p.m., Monday through Friday by calling 1-202-268-2906 in advance. E-mail comments, containing the name and address of the commenter, may be sent to: MailingStandards@usps.gov, with a subject line of “January 2012 Domestic Mailing Services Proposal.” Faxed comments are not accepted.

FOR FURTHER INFORMATION CONTACT: Bill Chatfield, 202-268-7278.

SUPPLEMENTARY INFORMATION: Proposed prices will be available under Docket Number(s) R2012-3 on the Postal Regulatory Commission's Web site at http://www.prc.gov.

The Postal Service's proposed rule includes: Several mail classification changes, modifications to mailpiece characteristics, and changes in classification terminology.

Proposed Change for Letters

Commercial First-Class Mail Letters

The pricing structure for presorted and automation First-Class Mail® letters is proposed to change so that the minimum postage charge would be for a 2-ounce letter instead of the current 1-ounce minimum postage charge.

We also remove standards for Reply Rides Free, because the program ends on December 31, 2011.

Commercial First-Class Mail and Standard Mail Letters

The Postal Service proposes to modify the process of submitting mailpieces to the Pricing and Classification Service Center (PCSC) for testing and to delete the provision that pieces with attached release cards be sent to Engineering.

Standard Mail Nonmachinable Letters

The USPS proposes to clarify that overflow Standard Mail® nonmachinable letters that mailers place into existing trays at another level would require matching documentation.

Proposed Changes for Flats

Automation Flats

The USPS proposes to clarify 301.3.0 to add that automation flats must meet the standards for all flats in 301.1.0 as well as the standards in 301.3.0.

Periodicals Flats

Currently, Periodicals flats are allowed on mixed area distribution center (MADC) pallets only when the flats are sacked. This proposed rule would allow bundles of Periodicals flats to be placed directly on MADC pallets and would assign a specific price for MADC pallets as well.

We propose to revise a price categorization under nonmachinable flats to insert the correct categorization of nonmachinable flats-nonbarcoded.

Detached Address Labels Used With Flats

The Postal Service proposes to add a new term to identify detached address labels (DALs) with advertising. Inclusion of advertising turns DALs into dual purpose pieces—optional addressing vehicles and marketing vehicles. A DAL with advertising on either side would be a type of DAL named as a detached marketing label (DML). Both DALs and DMLs could be used with saturation flats or with Standard Mail Marketing parcels.

Proposed Changes for Parcels

Machinable Parcels

To align the standards for machinable parcels with current mail processing equipment capability, the Postal Service proposes to change the dimensional criteria for all machinable parcels from the current 34 inches x 17 inches x 17 inches to 27 inches x 17 inches x 17 inches. We would additionally change the maximum weight of a machinable parcel from 35 pounds to 25 pounds for all parcels except those mailed as Parcel Select® or Parcel Return Service. We also propose to modify the processes by which parcels that do not fully meet the machinability standards are evaluated for machinability. In addition, the Postal Service proposes to clarify that parcels that meet the lightweight machinable parcel standards are definitively categorized as machinable parcels.

Standard Mail Parcels

Standard Mail regular parcels would be separated into two groups, Marketing parcels and parcels that will become Parcel Select Lightweight™ parcels. Nonprofit Standard Mail parcels would have separate standards for Nonprofit Marketing parcels and other Nonprofit parcels.

Marketing parcels are defined as containing information and/or product samples whose purposes are to encourage recipients to purchase a product or service, make a contribution, support a cause, form a belief or opinion, take an action, or provide information to recipients. These parcels would be required to bear an alternative addressing format (occupant or exceptional addressing, or simplified addressing when allowed for saturation mail), and would be presented for mailing in carrier route (basic, high-density, or saturation sortation) or presort separations. All Marketing parcels would have a maximum size of 12 inches by 9 inches by 2 inches thick. When DALs are used with Marketing parcels, the weight of the DALs is added to the parcels in determining postage as is currently the case, but there would be no separate charge for the DALs.

Not Flat-Machinables (NFMs)

In 2007, the USPS created a temporary NFM price category for Standard Mail items that could not meet revised automation flats standards. In the revised proposed rule Federal Register published on February 6, 2009 (74 FR 6250-6257), the Postal Service announced our intention to discontinue the NFM category in May 2010. In the March 25, 2010 Postal Bulletin (No. 22281), we announced that the NFM price category would be extended. We now propose to end the NFM category as of January 2012. Pieces that would have been mailed as NFMs should qualify as either Standard Mail Marketing parcels or Parcel Select Lightweight parcels.

Package Services Pieces

The Postal Service proposes to eliminate the provision to provide free local forwarding for Package Services pieces.

The USPS also proposes to discontinue the 3-cent barcode discount for all BPM, Media Mail®, and Library Mail parcels.

Special, Extra, and Other Services

Adult Signature

The Postal Service proposes to permit the use of a hard copy PS Form 3811, Domestic Return Receipt, with Adult Signature service when used with Express Mail® or Priority Mail®, including shipments made under the Prevent All Tobacco Cigarettes Trafficking (PACT) Act. A return receipt fee would be charged in addition to regular postage and the Adult Signature fee.

Customers eligible to mail cigarettes and smokeless tobacco under the business/regulatory purposes and consumer testing exceptions of the PACT Act are currently limited to shipping via Express Mail with Hold for Pickup service. This proposed rule will offer additional options: Express Mail with Adult Signature or Priority Mail with Adult Signature.

Confirm

The Postal Service proposes to discontinue Confirm service as a paid subscription service and to replace it with “IMb™ Tracing,” which will provide scan data similar to that provided through Confirm service, but with no paid subscription service required.

Waiver of Annual Mailing Fees for Full-Service Automation Mailings

The Postal Service proposes to revise certain requirements for mailers who present full-service (Intelligent Mail®) automation mailings. When mailers present only full-service automation mailings of First-Class Mail or Standard Mail letters and flats or BPM flats with 90 percent or more pieces qualifying for full-service automation prices, the Postal Service proposes to waive payment of the annual mailing fees for mailings presented under specific permits. As an additional allowance, when mailers present only qualifying full-service automation mailings with permit imprint indicia, those mailings will be able to be presented at any PostalOne! ® acceptance office without payment of an additional permit imprint application fee or payment of an annual mailing fee at the other office(s).

Post Office Boxes

The Postal Service proposes to add a new 3-month prepaid payment option, only available via recurring automatic payments, for Post Office Box service.

Stamp Fulfillment Services

Currently, the Postal Service charges a standard fee for most Stamp Fulfillment Services orders; however Stamp Fulfillment Services shipping fees are not identified in the DMM nor listed in Notice 123-Price List. However, the fees are subject to regulation by the PRC.

The USPS proposes to add new DMM language to explain that there are fees associated with Stamp Fulfillment Services and to refer customers to Notice 123 for the prices. A single standard fee is charged for orders up to $50, and a higher fee for larger orders.

Stationery

Currently, the USPS does not offer postcard stationery sheets that easily fit on standard computer printers. We propose to offer four perforated postcards on an 8½ inches x 11 inches sheet that would allow customers to feed them readily into computer printers. Once separated, each card will be 4¼ inches x 5½ inches.

Additionally, the USPS does not currently offer personalized stamped postcards. This proposed rule will allow customers to purchase stamped postcards with pre-printed return addresses.

Although we are exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

100 Retail Mail

101 Physical Standards

* * * * *

3.0 Physical Standards for Parcels

[Renumber current 3.1 through 3.6 as new 3.2 through 3.7 and add new 3.1 as follows:]

3.1 Processing Categories

USPS categorizes parcels into one of three mail processing categories: machinable, irregular, or outside parcel. These categories are based on the physical dimensions of the piece, regardless of the placement (orientation) of the delivery address on the piece.

* * * * *

3.4 Machinable Parcels

[Revise the introductory text of renumbered 3.4 as follows:]

A machinable parcel is any piece that is not a letter or a flat and that is (see Exhibit 3.4):

* * * * *

[Revise item 3.4b as follows:]

b. Not more than 27 inches long, or 17 inches high, or 17 inches thick. Parcels cannot weigh more than 25 pounds, except Parcel Select and Parcel Return parcels which have a maximum weight of 35 pounds, except for those containing books or other printed matter (25 pound maximum).

Exhibit 3.4 Machinable Parcel Dimensions

[Revise the current length dimension in to read 27 inches and delete the sentences describing the minimum and maximum weights in Exhibit 3.4.]

* * * * *

170 Media Mail and Library Mail

173 Prices and Eligibility

1.0 Media Mail and Library Mail Prices

* * * * *

[Delete 1.4, Barcode Discount—Machinable Parcels, in its entirety.]

[Renumber current 1.5 and 1.6 as new 1.4 and 1.5.]

* * * * *

200 Commercial Letters and Cards

201 Physical Standards

* * * * *

2.0 Physical Standards for Nonmachinable Letters

* * * * *

2.3 Additional Criteria for Standard Mail Nonmachinable Letters

[Revise 2.3 to read as follows:]

The nonmachinable prices in 243.1.0 apply to Standard Mail letter-size pieces that have one or more of the nonmachinable characteristics in 2.1. Mailers must prepare all nonmachinable letters as described in 245.5.0.

* * * * *

3.0 Physical Standards for Machinable and Automation Letters and Cards

* * * * *

[Revise the titles of 3.4 and 3.4.1 as follows:]

3.4 Standards for Letter-Size Pieces Containing One Disc (CD or DVD)

3.4.1 Basic Standards for One Disc in a Letter-Size Mailpiece

[Revise the text of 3.4.1 as follows:]

A letter-size mailpiece containing one disc and meeting the general standards in 3.0 and the specific standards in 3.4.3 is considered automation-compatible. A mailpiece with one enclosed disc not meeting these standards must be tested and approved for automation-compatibility. For this purpose, mailers must submit 5 sample mailpieces and a written request to the local postmaster or business mail entry manager for submission to the Pricing and Classification Service Center.

* * * * *

3.12 Flexibility Standards for Automation Letters

* * * * *

3.12.2 USPS Services for Flexibility Testing

[Revise the text of 3.12.2 as follows:]

A mailer requesting flexibility testing for letter-size mailpieces must submit at least 5 mailpieces and a written request to their local postmaster or business mail entry manager for submission to the Pricing and Classification Service Center (PCSC) at least 6 weeks before the mailing date. The request must describe mailpiece contents and construction, number of pieces being produced, and preparation level. The PCSC will evaluate the piece and, if warranted, will instruct the mailer to submit samples to USPS Engineering for testing. The PCSC advises the mailer of its findings. If the mailpiece is approved, the letter includes a unique number identifying the piece and serves as evidence that the piece meets the relevant standards. A copy of the letter must accompany each postage statement submitted for mailings of the approved piece. If requested by the USPS, the mailer must show that pieces presented for mailing are the same as those approved.

3.13 Labels, Stickers, Release Cards, and Perforated Pockets Affixed to the Outside of Letter-Size Mailpieces

* * * * *

3.13.4 Letter-Size Piece With Attached Release Card

[Revise the introductory text of 3.13.4 as follows:]

A letter-size mailpiece, with one or two attached release cards, must have the following characteristics:

* * * * *

230 First-Class Mail

233 Prices and Eligibility

1.0 Prices and Fees for First-Class Mail

* * * * *

1.2 Price Computation for First-Class Mail Letters

[Revise the text of 1.2 as follows:]

Commercial First-Class Mail presorted letters are charged at one price for the first two ounces, with separate prices for pieces over two ounces up to three ounces and for pieces over three ounces up to 3.5 ounces. Any fraction of an ounce is considered a whole ounce. For example, if a piece weighs 2.2 ounces, the weight (postage) increment is 3 ounces. The pricing per ounce is similar for automation First-Class Mail letters, with pricing differences per sortation level.

* * * * *

3.0 Basic Standards for First-Class Mail Letters

* * * * *

3.4 Presort Mailing Fee

[Revise the text of 3.4 by adding a new second sentence as follows:]

* * * Payment of this fee is waived for mailers who present only full-service automation mailings (under 705.23) containing 90% or more pieces qualifying for full-service prices. * * *

* * * * *

7.0 First-Class Mail Incentive Programs

* * * * *

[Delete 7.2, Reply Rides Free Program, in its entirety.]

* * * * *

234 Postage Payment and Documentation

* * * * *

2.0 Postage Payment for Presorted and Automation Letters

* * * * *

2.2 Affixing Postage for Presorted and Automation First-Class Mail

Unless permitted by other standards or authorization by Business Mailer Support, when precanceled postage or meter stamps are used, only one payment method may be used in a mailing and each piece must bear postage under one of these conditions:

[Revise item 2.2a as follows:]

a. Each metered piece weighing more than 2 ounces must bear the correct additional postage to pay for the additional ounce(s).

* * * * *

[Revise item 2.2c as follows:]

c. Each metered piece must bear full postage at the lowest First-Class Mail letter price (or card price as applicable) appropriate to the mailing plus any additional ounce(s) or nonmachinable surcharge.

* * * * *

240 Standard Mail

243 Prices and Eligibility

* * * * *

3.0 Basic Standards for Standard Mail Letters

* * * * *

3.4 Presort Mailing Fees

[Revise the text of 3.4 by adding a new second sentence as follows:]

* * * Payment of this fee is waived for mailers who present only full-service automation mailings (under 705.23) containing 90% or more pieces qualifying for full-service prices. * * *

* * * * *

245 Mail Preparation

* * * * *

5.0 Preparing Nonautomation Letters

* * * * *

5.4 Nonmachinable Preparation

* * * * *

5.4.2 Traying and Labeling

[Revise the introductory text of 5.4.2 as follows:]

When all full trays for a destination have been prepared, mailers may include a group of 10 or more overflow pieces for that destination in a qualified tray at either of the next two tray levels. For example, overflow pieces for a 5-digit destination may be placed into an existing correct 3-digit tray; if a 3-digit tray that includes the 5-digit destination does not exist, the overflow pieces may be placed into the correct existing ADC tray. Bundle the overflow pieces separately with the correct presort bundle label or OEL; the pieces will still qualify for the 5-digit price. Mailers must note these trays on standardized documentation (see 708.1.2). Preparation sequence, tray size, and labeling:

* * * * *

300 Commercial Flats

301 Physical Standards

* * * * *

3.0 Physical Standards for Automation Flats

3.1 Basic Standards for Automation Flats

[Revise the text of 3.1 as follows:]

Flat-size pieces claimed at automation prices must meet the standards in 1.0 and in 3.0, and the eligibility standards for the class of mail and price claimed.

* * * * *

330 First-Class Mail

333 Prices and Eligibility

* * * * *

3.0 Eligibility Standards for First-Class Mail Flats

* * * * *

3.4 Presort Mailing Fee

[Revise the text of 3.4 by adding a new second sentence as follows:]

* * * Payment of this fee is waived for mailers who present only full-service automation mailings (under 705.23) containing 90% or more pieces qualifying for full-service prices. * * *

* * * * *

340 Standard Mail

343 Prices and Eligibility

* * * * *

3.0 Basic Standards for Standard Mail Flats

* * * * *

3.4 Presort Mailing Fees

[Revise the text of 3.4 by adding a new second sentence as follows:]

* * * Payment of this fee is waived for mailers who present only full-service automation mailings (under 705.23) containing 90% or more pieces qualifying for full-service prices. * * *

* * * * *

360 Bound Printed Matter

363 Prices and Eligibility

1.0 Prices and Fees for Bound Printed Matter

1.1 Nonpresorted Bound Printed Matter

* * * * *

1.1.4 Barcoded Discount—Flats

[Revise the text of 1.1.4 as follows:]

The barcoded discount applies only to BPM flat-size pieces that meet the requirements in 301.3.0 and bear a delivery point POSTNET barcode or Intelligent Mail barcode encoded with the correct delivery point routing code, matching the delivery address and meeting the standards in 302.5.0 and 708.4.0. The pieces must be part of a nonpresorted mailing of 50 or more flat-size pieces.

* * * * *

1.2 Commercial Bound Printed Matter

* * * * *

1.2.6 Destination Entry Mailing Fee

[Add a new second sentence to 1.2.6 as follows:]

* * * Payment of this fee is waived for mailers who present only full-service automation mailings (under 705.23) containing 90 percent or more pieces qualifying for full-service prices.

* * * * *

400 Commercial Parcels

401 Physical Standards

1.0 Physical Standards for Parcels

* * * * *

1.3 Maximum Weight and Size

[Revise text of 1.3 by adding a new fourth sentence to read as follows:]

* * * Standard Mail Marketing parcels (see 2.4) may not be larger than 12 inches long, 9 inches high, and 2 inches thick. * * *

* * * * *

1.5 Machinable Parcels

1.5.1 Criteria

[Revise the introductory sentence to 1.5.1 as follows:]

A machinable parcel is any piece that is not a letter or a flat and that is (see Exhibit 1.5.1):

* * * * *

[Revise item 1.5.1b as follows:]

b. Not more than 27 inches long, or 17 inches high, or 17 inches thick. Parcels cannot weigh more than 25 pounds, except Parcel Select and Parcel Return parcels which have a maximum weight of 35 pounds, except for those containing books or other printed matter (25 pound maximum).

Exhibit 1.5.1 Machinable Parcel Dimensions

[Revise the current length dimension to read 27 inches and delete the sentences describing the minimum and maximum weights in Exhibit 1.5.1.]

* * * * *

[Revise the title and the introductory text of 1.5.2 as follows:]

1.5.2 Criteria for Lightweight Machinable Parcels

A parcel that weighs less than 6 ounces (but not less than 3.5 ounces) is machinable if it meets all of the following conditions:

* * * * *

1.5.4 Exception

[Revise 1.5.4 as follows:]

Mailers of parcels that do not conform to the machinability criteria in 1.5.1 or 1.5.2 may request authorization to mail such parcels as machinable parcels by contacting the manager, Pricing and Classification Service Center (PCSC; see 608.8.1 for address). The manager, PCSC, in conjunction with the manager, Operations Integration and Support, may authorize such parcels as machinable if the parcels are tested on NDC parcel sorters and prove to be machinable. Mailers requesting testing of parcels for machinability must:

a. Submit a written request and two sample parcels to the PCSC. The request must list the mailpiece characteristics for every shape, weight, construction, and size to be considered. If the request describes a mailpiece that falls within the specifications of pieces that were tested previously, the mailpiece may not require testing.

b. State the estimated number of parcels to be mailed in the next 12 months, and the anticipated preparation level (e.g., destination NDC pallets).

c. Upon acknowledgement from the manager, Operations Integration and Support, the mailer may be required to send 100 mailpiece samples to the designated test facility at least 6 weeks prior to the first mailing date. The USPS may recommend changes to physical characteristics of the mailpieces, and additional testing of the redesigned pieces, before authorizing parcels as machinable.

* * * * *

2.0 Additional Physical Standards by Class of Mail

* * * * *

[Revise the title of 2.4 to read as follows:]

2.4 Standard Mail Parcels

* * * * *

[Revise title and text of 2.4.2 to delete references to Not Flat-Machinables and add standards for Marketing parcels to read as follows:]

2.4.2 Marketing Parcels

Marketing parcels do not meet letters or flats standards and have the following characteristics:

a. Height not more than 9 inches high. Minimum height must be 3½ inches if the parcel is ¼ inch thick or less.

b. Length not more than 12 inches long. Minimum length must be 5 inches if the parcel is ¼ inch thick or less.

c. Thickness at least 0.009 thick, but not more than 2 inches.

d. An alternative addressing format, according to 602.3.0.

* * * * *

2.6 Bound Printed Matter Parcels

2.6.1 General Standards

[Revise the text of 2.6.1 by moving the text of item 2.6.1a into the introductory sentence and deleting item 2.6.1b in its entirety as follows:]

Pieces mailed at Bound Printed Matter prices may not weigh more than 15 pounds.

402 Elements on the Face of a Mailpiece

1.0 All Mailpieces

* * * * *

1.2 Delivery and Return Address

[Revise 1.2 by reorganizing the text and adding a new last sentence to read as follows:]

The delivery address specifies the location to which the USPS is to deliver a mailpiece (see 602 for more information). Except for pieces prepared with detached address labels under 602.4.0, each mailpiece must have a visible and legible delivery address only on the side of the piece bearing postage. A return address is required in specific circumstances (see 3.2 and 602.1.5). Standard Mail Marketing parcels (see 443) must use an alternative addressing format under 602.3.0.

* * * * *

4.0 General Barcode Placement for Parcels

* * * * *

4.3 POSTNET Barcodes, GS1-128 Routing Barcodes and Intelligent Mail Package Barcodes

[Revise text of 4.3 by deleting references to Not Flat-Machinable pieces and revising other text to read as follows:]

First-Class Package Service parcels and Standard Mail irregular parcels may bear POSTNET barcodes (under 4.3.1 through 4.3.3) or GS1-128 routing barcodes. First-Class Package Service parcels and Standard Mail irregular parcels bearing POSTNET barcodes representing only the postal routing barcode (destination ZIP Code) are eligible to be mailed using eVS under 705.2.9. POSTNET barcodes may not be used on eVS parcels bearing concatenated GS1-128 barcodes.

4.3.1 General Placement of POSTNET Barcodes

[Revise text of 4.3.1 by deleting references to Not Flat-Machinable piece under 6 ounces and revising other text to read as follows:]

On a First-Class Package Service parcel or Standard Mail irregular parcel, the POSTNET barcode may be anywhere on the address side at least ⅛ inch from any edge of the piece. Print POSTNET barcodes according to 708.4.0. Address block barcodes are subject to 4.3.2.

* * * * *

440 Standard Mail

443 Prices and Eligibility

1.0 Prices and Fees for Standard Mail

* * * * *

[Revise title of 1.2 to read as follows:]

1.2 Regular and Nonprofit Standard Mail—Marketing Parcel Prices

* * * * *

[Revise title of 1.3 as follows:]

1.3 Nonprofit Standard Mail—Machinable and Irregular Parcel Prices

* * * * *

3.0 Basic Standards for Standard Mail Parcels

* * * * *

3.2 Defining Characteristics

* * * * *

[Renumber current 3.2.2 through 3.2.8 as 3.2.4 through 3.2.10 and add new 3.2.2 and 3.2.3 as follows:]

3.2.2 Standard Mail Marketing Parcels

All Standard Mail Marketing parcels (both regular and nonprofit) must bear an alternative addressing format (see 602.3.0) and are subject to size restrictions in 401.2.4.2.

3.2.3 Nonprofit Standard Mail Machinable and Irregular Parcels

Nonprofit Standard Mail parcels that do not qualify as Marketing parcels may be prepared and mailed as machinable or irregular parcels.

* * * * *

3.3 Additional Basic Standards for Standard Mail

Each Standard Mail mailing is subject to these general standards:

* * * * *

[Revise text of item 3.3d to read as follows:]

d. Each Marketing parcel must bear an alternative addressing format subject to 602.3.0. Nonprofit Standard Mail machinable or irregular parcels must bear the addressee's name and complete delivery address, or may use an alternative addressing format. Detached address labels may be used subject to 602.4.0.

* * * * *

4.0 Price Eligibility for Standard Mail

* * * * *

4.2 Minimum Per Piece Prices

The minimum per piece prices (i.e., the minimum postage that must be paid for each piece) apply as follows:

* * * * *

[Revise text of item 4.2c as follows:]

c. Individual Prices. There are separate minimum per piece prices for each product and, within each product, for the presort and destination entry levels within each mailing. There are also separate prices for Marketing parcels and for Nonprofit machinable parcels and Nonprofit irregular parcels. DDU prices are available for parcels entered only at 5-digit or one of the Enhanced Carrier Route prices.

4.3 Piece/Pound Prices

[Revise the text of 4.3 as follows:]

Pieces that exceed 3.3 ounces (0.2063 pound) are subject to a two-part piece/pound price that includes a fixed charge per piece and a variable pound charge based on weight. There are separate per piece prices for each product and within each product for the type of mailing and the presort and destination entry levels within each mailing. There are separate per pound prices for each product. There are also separate prices for Marketing parcels and for Nonprofit machinable parcels and Nonprofit irregular parcels.

4.4 Surcharge

[Revise the introductory text of 4.4 to read as follows:]

Unless prepared in carrier route or 5-digit/scheme containers, Standard Mail parcels are subject to a surcharge if:

* * * * *

[Revise item 4.4b as follows:]

b. The Marketing parcels or the machinable parcels do not bear a GS1-128 routing barcode or Intelligent Mail package barcode, under 708.5.0, for the delivery address.

[Delete current item 4.4c in its entirety; redesignate current item d as new item c and revise to read as follows:]

c. The irregular parcels do not bear a GS1-128 routing barcode, Intelligent Mail package barcode or POSTNET barcode for the delivery address.

4.5 Extra Services for Standard Mail

4.5.1 Available Services

[Revise the introductory text of 4.5.1 as follows:]

Only the following extra services may be used with Standard Mail parcels, with restrictions as noted in 4.5.2:

* * * * *

[Delete 4.5.2, Eligible Matter, in its entirety and renumber current 4.5.3 and 4.5.4 as new 4.5.2 and 4.5.3.]

5.0 Additional Eligibility Standards for Presorted Standard Mail Pieces

* * * * *

5.2 Price Application

[Revise 5.2 as follows:]

Prices for Standard Mail and Nonprofit Standard Mail apply separately to Marketing parcels that meet the eligibility standards in 2.0 through 4.0 and the preparation standards in 445.5.0, 705.6.0, 705.8.0, or 705.20. Prices for Nonprofit parcels not qualifying as Marketing parcels apply separately to machinable parcels and irregular parcels. When parcels are combined under 445.5.0, 705.6.0, or 705.20, all pieces are eligible for the applicable prices when the combined total meets the eligibility standards.

* * * * *

[Revise title of 5.4 to read as follows:]

5.4 Prices for Irregular Parcels and Marketing Parcels

5.4.1 5-Digit Price

[Revise the introductory text of 5.4.1 as follows:]

5-digit prices apply to irregular parcels and to Marketing parcels that are dropshipped to a DNDC (or ASF when claiming DNDC prices), DSCF, or DDU and presented:

* * * * *

[Delete item 5.4.1e in its entirety.]

5.4.2 SCF Price

[Revise the introductory text of in 5.4.2 as follows:]

SCF prices apply to irregular parcels and to Marketing parcels that are dropshipped and presented to a DSCF or DNDC:

* * * * *

5.4.3 NDC Price

[Revise the introductory text of 5.4.3 as follows:]

NDC prices apply to irregular parcels and to Marketing parcels as follows under either of the following conditions:

* * * * *

5.4.4 Mixed NDC Price

[Revise the text of 5.4.4 as follows:]

Mixed NDC prices apply to irregular parcels and to Marketing parcels in origin NDC or mixed NDC containers that are not eligible for 5-digit, SCF, or NDC prices. Place irregular parcels at mixed NDC prices in origin NDC or mixed NDC sacks under 445.5.4.4 or on origin NDC or mixed NDC pallets under 705.8.10.

[Revise the title of 6.0 as follows:]

6.0 Additional Eligibility Standards for Enhanced Carrier Route Standard Mail Marketing Parcels

6.1 General Enhanced Carrier Route Standards

* * * * *

6.1.2 Basic Eligibility Standards

[Revise the introductory text of 6.1.2 as follows:]

All pieces in an Enhanced Carrier Route or Nonprofit Enhanced Carrier Route mailing of Standard Mail Marketing parcels must:

* * * * *

d. Bear a delivery address that includes the correct ZIP Code, ZIP + 4 code, or numeric equivalent to the delivery point barcode (DPBC) and that meets these addressing standards:

* * * * *

[Revise item d2 to require alternative addressing to read as follows:]

2. An alternative addressing format as described in 602.3.0.

* * * * *

[Revise the first sentence of item 6.1.2f to indicate new size restrictions to read as follows:]

f. Enhanced Carrier Route Marketing parcels may not be more than 9 inches high, 12 inches long, or 2 inches thick. * * *

* * * * *

445 Mail Preparation

1.0 General Information for Mail Preparation

* * * * *

1.3 Terms for Presort Levels

Terms used for presort levels are defined as follows:

* * * * *

[Delete current item 1.3e, Origin/Entry 3-Digit, in its entirety and redesignate current item 1.3f as new item 1.3e.]

[Delete current items 1.3g, Origin Optional Entry SCF, and 1.3h, ADC, in their entirety and redesignate current items 1.3i through1.3 l as new items 1.3f through 1.3i.]

1.4 Preparation Definitions and Instructions

For purposes of preparing mail:

* * * * *

[Delete current item 1.4d in its entirety and redesignate current items e through j as new items d through i.]

2.0 Bundles

2.1 Definition of a Bundle

[Revise the last sentence in 2.1 by deleting the reference to 5-digit bundles and Not Flat-Machinables to read as follows:]

* * * Bundling under 445 is allowed only for Marketing parcels mailed at carrier route prices.

* * * * *

2.11 Facing Slips—All Carrier Route Mail

All facing slips used on carrier route bundles must show this information:

* * * * *

[Revise item 2.11b as follows:]

b. Line 2: Content (appropriate to the class), followed by carrier route type and route number (e.g., “STD MKTG LOT CR R 012”).

* * * * *

4.0 Sack Labels

* * * * *

4.4 Line 2 (Content Line)

Line 2 (content line) must meet these standards:

* * * * *

b. Codes: The codes shown below must be used as appropriate in Line 2 of sack labels:

[Revise the table in item 4.4b by adding a new row after “Machinable” (seventh row) with “Marketing Parcels” (new eighth row) in the “CONTENT TYPE” column and with “MKTG” in the “CODE” column as follows:]

Content type | Code
* * * * * * *
Machinable | MACH
Marketing Parcels | MKTG
* * * * * * *

5.0 Preparing Presorted Parcels

5.1 Basic Standards

[Revise the introductory sentence of 5.1 as follows:]

All mailings and all pieces in each mailing at Standard Mail and Nonprofit Standard Mail parcel prices are subject to preparation standards in 5.3 or 5.4, and to these general standards:

* * * * *

[Revise item 5.1b as follows:]

b. Marketing parcels, Nonprofit machinable parcels, and Nonprofit irregular parcels must each be prepared as separate mailings, except under 5.3.1.

* * * * *

5.2 Markings

[Revise the text of 5.2 as follows:]

All parcels must be marked according to 402.2.0.

[Revise the title of 5.3 as follows:]

5.3 Preparing Marketing Parcels (6 Ounces or More) and Machinable Parcels

5.3.1 Sacking

[Revise the introductory text of 5.3.1 as follows:]

Prepare mailings of Marketing parcels weighing 6 ounces or more and mailings of machinable parcels under 5.3.0. Prepare 5-digit sacks only for parcels dropshipped to a DNDC (or ASF when claiming DNDC prices), DSCF, or DDU. Prepare ASF or NDC sacks only for parcels dropshipped to a DNDC (or ASF when claiming DNDC prices). There is no minimum for parcels in 5-digit/scheme sacks entered at a DDU. Mailers combining irregular parcels with machinable parcels placed in 5-digit/scheme sacks must prepare those sacks under 5.3.2a. Mailers combining Marketing parcels weighing 6 ounces or more with machinable parcels placed in ASF, NDC, or mixed NDC sacks must prepare the sacks under 5.3.2. For mailings of only Marketing parcels weighing 6 ounces or more, use “MKTG” on line 2 of sack labels instead of “MACH” under items 5.3.2a through e.

* * * * *

[Revise the title of 5.4 as follows:]

5.4 Preparing Marketing Parcels (Less Than 6 Ounces) and Irregular Parcels

5.4.1 Bundling

[Revise the text of 5.4.1 as follows:]

Bundling is permitted only for bundles of carrier route Marketing parcels under 7.0.

5.4.2 Sacking

[Revise the text of 5.4.2 as follows:]

Prepare mailings of Marketing parcels weighing less than 6 ounces and mailings of irregular parcels under 5.4.0. Prepare 5-digit sacks only for parcels dropshipped to a DNDC (or ASF when claiming DNDC prices), DSCF, or DDU. See 5.4.3 for restrictions on SCF, ASF, and NDC sacks. Mailers must prepare a sack when the quantity of mail for a required presort destination reaches 10 pounds of pieces. There is no minimum for parcels prepared in 5-digit/scheme sacks entered at a DDU. Mailers combining irregular parcels with machinable parcels and Marketing parcels weighing 6 ounces or more in 5-digit/scheme sacks must prepare those sacks under 5.3.2. Mailers may not prepare sacks containing irregular and machinable parcels to other presort levels. Mailers may combine irregular parcels with Marketing parcels weighing less than 6 ounces in sacks under 5.4.3. For mailings of only Marketing parcels weighing less than 6 ounces, use “MKTG” on line 2 of sack labels instead of “IRREG” under items 5.4.3a through f.

* * * * *

[Delete 5.4.3, Drop Shipment, in its entirety and renumber current 5.4.4 as new 5.4.3.]

[Delete current 6.0 in its entirety and renumber all of current 7.0 as new 6.0.]

* * * * *

6.0 Preparing Enhanced Carrier Route Parcels

6.1 Basic Standards

[Revise the introductory text of renumbered 6.1 as follows:]

All mailings and all pieces in each mailing at an Enhanced Carrier Route (ECR) parcel price are subject to specific preparation standards in 6.4, and 6.5, and to these general standards:

[Revise items 6.1a through d as follows:]

a. All pieces must meet the standards for basic eligibility in 443.2.0 through 443.4.0 and specific eligibility in 443.6.0. Nonprofit Enhanced Carrier Route Standard Mail must meet the additional eligibility standards in 703.1.0.

b. All pieces in each mailing must be Marketing parcels as defined in 443.3.2.2.

c. All pieces must meet the applicable general preparation standards in 1.0 through 4.0, and the following:

1. Pieces must be sequenced according to 6.6 and 6.7.

2. Pieces with a simplified address format must meet the standards in 602.3.0.

d. All pieces in the mailing must meet the specific sortation and preparation standards in 6.0 or the palletization standards in 705.8.0.

* * * * *

6.3 Residual Pieces

[Revise the text of renumbered 6.3 as follows:]

Parcels not sorted as a carrier route mailing must be prepared as a separate mailing at Standard Mail Presorted prices.

6.4 Bundling

* * * * *

6.4.2 Bundles and Sacks With Fewer Than the Minimum Number of Pieces Required

[Revise the text of renumbered 6.4.2 as follows:

As a general exception to 6.4.1 and 6.5.1, mailers may prepare a bundle with fewer than 10 pieces and a less-than-full sack with fewer than 125 pieces or less than 15 pounds of pieces to a carrier route when they are claiming the saturation price for the contents and the applicable density standard is met. Mailers using Express Mail Open and Distribute or Priority Mail Open and Distribute to dropship ECR parcels also may prepare sacks of fewer than 125 pieces or less than 15 pounds of mail.

[Revise the title of renumbered 6.5 as follows:]

6.5 Preparing Carrier Route Marketing Parcels

6.5.1 Sack Minimums

[Revise the introductory text of renumbered 6.5.1 as follows:]

Except under 6.4.1, a sack must be prepared when the quantity of mail for a required presort destination reaches either 125 pieces or 15 pounds of pieces, whichever occurs first, subject to these conditions:

* * * * *

[Revise item 6.5.1b as follows:]

b. For nonidentical-weight pieces, mailers must use the minimum that applies to either the average piece weight for the entire mailing or the actual piece count or mail weight for each sack, if documentation can be provided with the mailing that shows (specifically for each sack) the number of pieces and their total weight.

* * * * *

6.5.2 Sacking and Labeling

Preparation sequence, sack size, and labeling:

a. Carrier route: required (minimum of 125 pieces/15 pounds).

* * * * *

[Revise item a2 as follows:]

2. Line 2: “STD MKTG WSS” or “STD MKTG WSH” or “STD MKTG LOT” as applicable, followed by the route type and number.

b. 5-digit carrier routes: required (no minimum).

* * * * *

[Revise item b2 as follows:]

2. Line 2: “STD MKTG CR-RTS.”

* * * * *

446 Enter and Deposit

* * * * *

5.0 Destination Delivery Unit (DDU) Entry

* * * * *

5.2 Eligibility

Pieces in a mailing that meets the standards in 2.0 and 5.0 are eligible for the DDU price when deposited at a DDU, addressed for delivery within that facility's service area, and prepared as follows:

* * * * *

[Revise item 5.2b by deleting the reference to Not Flat-Machinable pieces to read as follows:]

b. One or more parcels in 5-digit containers.

* * * * *

460 Bound Printed Matter

463 Prices and Eligibility

1.0 Prices and Fees for Bound Printed Matter

1.1 Nonpresorted Bound Printed Matter

* * * * *

[Delete 1.1.3 Barcode Discount—Machinable Parcels in its entirety and renumber current items 1.1.4 and 1.1.5 as new 1.1.3 and 1.1.4.]

1.2 Commercial Bound Printed Matter

* * * * *

1.2.3 Bound Printed Matter Presorted and Carrier Route Prices

[Delete the second sentence of 1.2.3.]

1.2.4 Bound Printed Matter Destination Entry Prices

[Delete the second sentence of 1.2.4.]

* * * * *

4.0 Price Eligibility for Bound Printed Matter Parcels

4.1 Price Eligibility

* * * Price categories are as follows:

* * * * *

[Delete item 4.1d in its entirety.]

* * * * *

470 Media Mail and Library Mail

473 Prices and Eligibility

* * * * *

6.0 Price Eligibility for Media Mail and Library Mail Parcels

* * * * *

6.3 Price Categories for Media Mail and Library Mail Parcels

* * * The price categories and discounts are as follows:

[Delete item 6.3c in its entirety.]

* * * * *

500 Additional Mailing Services

503 Extra Services

* * * * *

6.0 Return Receipt

* * * * *

6.2 Basic Information

* * * * *

6.2.4 Additional Services

[Revise the introductory text of 6.2.4 as follows:]

If return receipt service has been purchased with one of the services listed in 6.2.2, one or more of the following extra services may be added at the time of mailing if the standards for the services are met and the additional service fees are paid:

* * * * *

[Add new item 6.2.4f as follows:]

f. Adult Signature (Express Mail and Priority Mail only), under restrictions in 8.2.6.

* * * * *

8.0 Adult Signature

* * * * *

8.2 Basic Information

* * * * *

8.2.5 Confirmation of Delivery

Confirmation of delivery information for Adult Signature is available as follows:

* * * * *

[Add new item 8.2.5c as follows:]

c. Return receipt service (hard copy PS Form 3811 option only), under 6.0, may be purchased with Express Mail or Priority Mail pieces requesting Adult Signature.

8.2.6 Additional Services

Adult Signature may be combined with:

* * * * *

[Add new item 8.2.6d as follows:]

d. Return receipt (hard copy PS Form 3811 only) for Express Mail and Priority Mail pieces.

* * * * *

10.0 Delivery Confirmation

* * * * *

10.2 Basic Information

* * * * *

10.2.2 Eligible Matter

[Revise the first sentence of the introductory text of 10.2.2 as follows:]

Delivery Confirmation is available for First-Class Mail parcels and First-Class Package Service parcels; all Priority Mail pieces; Standard Mail parcels (electronic option only); Package Services, Parcel Select, and Parcel Select Regional Ground parcels (electronic option only) under 401.1.0. * * *

* * * * *

10.2.3 Electronic Option Delivery Confirmation for Standard Mail

[Revise the first sentence of 10.2.3 as follows:]

If electronic option Delivery Confirmation is requested for all pieces in the mailing and the pieces are of identical weight, then postage may be paid with metered postage or permit imprint under the applicable standards in 444.2.0 for parcels. * * *

* * * * *

11.0 Signature Confirmation

* * * * *

11.2 Basic Information

* * * * *

11.2.2 Eligible Matter

[Revise the first sentence of the introductory text of 11.2.2 as follows:]

Signature Confirmation is available for First-Class Mail parcels and First-Class Package Service parcels; all Priority Mail pieces; Standard Mail parcels (electronic option only); Package Services, Parcel Select, and Parcel Select Regional Ground parcels (electronic option only) under 401.1.0. * * *

* * * * *

[Revise the title of 14.0 as follows:]

14.0 Confirm Service and IMb Tracing

[Delete the current text of 14.1 through 14.4 and replace with the following:]

14.1 Basic Information

14.1.1 General Information

IMb Tracing is a replacement for Confirm service. Participation in Confirm service is limited to those customers who have already paid for a current subscription until the subscription expires. After the expiration of a Confirm subscription, IMb Tracing provides the same basic information as Confirm, but is available at no charge without a subscription. Requirements for participation in IMb Tracing are the use of the Intelligent Mail barcode, the use of a Mailer Identifier that has been registered (via the Business Customer Gateway, accessible on usps.com) to receive scan data, and verification by the Postal Service that the Intelligent Mail barcode (IMb) as printed meets all applicable postal standards.

14.1.2 Description of Service

IMb Tracing (and Confirm) provides a mailer with data electronically collected from the scanning of barcoded mailpieces as they pass through automated mail processing operations. Scanned data can include the postal facility where such pieces are processed, the postal operation used to process the pieces, the date and time when the pieces are processed, and the numeric equivalent of a barcode(s) that help to identify the specific pieces. Any piece intended to generate scanned data must meet the physical characteristics and standards in 14.0, although not every piece is guaranteed such data or complete data. This service does not provide proof of delivery. Existing users must convert to the use of an IMb to receive data once existing subscriptions expire.

14.1.3 Availability

IMb Tracing is available to mailers for obtaining scan data for automation-compatible letter-size and automation-compatible flat-size mail.

14.2 Barcodes

14.2.1 General Barcode Requirements

Each piece in a mailing that is intended to generate IMb Tracing information must bear an Intelligent Mail barcode under 14.2.2. Until the time when their current Confirm subscription expires, mailers may use PLANET Code barcodes and POSTNET barcodes under the provisions in Publication 197, Confirm Service Featuring OneCode Confirm, accessible online at http://ribbs.usps.gov/. Otherwise, mailers must apply Intelligent Mail barcodes under 708.4.0 and the following standards:

a. Reply pieces must meet the following standards:

1. For Business Reply Mail, the piece must bear a barcode that corresponds to the subscriber's Business Reply Mail ZIP+4 codes assigned by the USPS under 507.9.0.

2. For other reply mail, the piece must bear a barcode that correctly corresponds to the delivery address.

b. Outgoing pieces must bear an Intelligent Mail barcode that correctly corresponds to the delivery address.

14.2.2 Intelligent Mail Barcode Requirements

To obtain IMb Tracing, mailers apply Intelligent Mail barcodes on letter-size pieces or on flat-size pieces meeting automation-compatibility standards in 201.3.0 (letters) or 301.3.0 (flats). No other barcode use is acceptable on these pieces. Only one Intelligent Mail barcode may appear on each piece, according to these standards:

a. Intelligent Mail barcodes must meet the barcode and format standards in 708.4.0 and in Specification USPS-B-3200 at http://ribbs.usps.gov/.

b. Place barcodes on letters according to 202.5.0, and on flats according to 302.5.0.

* * * * *

507 Mailer Services

1.0 Treatment of Mail

* * * * *

1.5 Treatment for Ancillary Services by Class of Mail

* * * * *

1.5.3 Standard Mail

Undeliverable-as-addressed (UAA) Standard Mail is treated as described in Exhibit 1.5.3a and Exhibit 1.5.3k, with these additional conditions:

* * * * *

[Revise item 1.5.3j as follows:]

j. A returned piece endorsed “Return Service Requested” is charged the applicable single-piece First-Class Mail price for the weight and shape of the piece, or the Priority Mail price for the weight and destination of the piece.

* * * * *

1.5.4 Package Services and Parcel Select

Undeliverable-as-addressed (UAA) Package Services and Parcel Select mailpieces are treated as described in Exhibit 1.5.4, with these additional conditions:

* * * * *

[Revise item 1.5.4d as follows:]

d. If a Package Services (except for unendorsed Bound Printed Matter) or a Parcel Select mailpiece and any attachment are not opened by the addressee, the addressee may refuse delivery of the piece and have it returned to the sender without affixing postage. Pieces endorsed “change service requested” are not returned to sender. If a Package Services or Parcel Select piece or any attachment to that piece is opened by the addressee, the addressee must affix the applicable postage to return the piece to the sender. If the addressee does not want to pay forwarding postage for all Package Services mail, use Form 3546 to notify the postmaster of the old address to discontinue the forwarding of Package Services mail.

[Revise item 1.5.4e as follows:]

e. An undeliverable Package Services (except for unendorsed Bound Printer Matter) or a Parcel Select mailpiece that bears postage with a postage evidencing imprint and that has no return address or illegible return address is returned to the meter licensee or PC Postage customer upon payment of the return postage. The reason for nondelivery is attached, with no address correction fee. All Package Services and Parcel Select pieces must have a legible return address.

* * * * *

Exhibit 1.5.4 Treatment of Undeliverable Package Services Mail and Parcel Select

* * * * *

[Revise the text in the Exhibit 1.5.4 column “USPS Treatment of UAA Pieces” endorsement “Address Service Requested as follows:]

If change-of-address order on file:

[Revise the first sentence of the introductory text in the first bullet as follows:

• Months 1 through 12: Package Services forwarded at the single-piece price for the class of mail. * * *

* * * * *

[Revise the text in the Exhibit 1.5.4 column “USPS Treatment of UAA Pieces” endorsement “Forwarding Service Requested as follows:]

If change-of-address order on file:

[Revise the first sentence of the introductory text in the first bullet as follows:]

• Months 1 through 12: Package Services forwarded at the single-piece price for the class of mail. * * *

* * * * *

2.0 Forwarding

* * * * *

2.3 Postage for Forwarding

* * * * *

2.3.6 Package Services and Parcel Select

[Delete the current second sentence of 2.3.6 and revise the text to read as follows:]

Package Services and Parcel Select pieces are subject to the collection of additional postage at the applicable price for forwarding; Parcel Select at the Parcel Select nonpresort price plus the additional service fee and Package Services at the single-piece price for the specific class of mail. The addressee may refuse any piece of Package Services or Parcel Select that has been forwarded. Shipper Paid Forwarding, under provisions in 4.2.9, provides mailers an option of paying forwarding postage for parcels instead of the addressee paying postage due charges.

* * * * *

508 Recipient Services

* * * * *

4.0 Post Office Box Service

* * * * *

4.2 Basic Information for Post Office Box Service

* * * * *

4.2.7 Service Period

[Revise the text of 4.2.7 as follows:]

Post Office Box service is available in 3-, 6- or 12-month prepaid periods. The 3-month option is available only through recurring automatic payments. The 3-month option is not available at Post Office locations on the semi-annual (April/October) payment schedule.

* * * * *

4.5 Basis of Fees and Payment

* * * * *

4.5.4 Payment

[Revise the first sentence of 4.5.4 as follows:]

All fees for Post Office Box service are for 3-, 6- or 12-month prepaid periods, except as noted under 4.5.6, 4.5.7, and 4.5.10. * * *

* * * * *

4.7 Fee Refund

4.7.1 Calculation

When Post Office Box service is terminated or surrendered by the customer, the unused portion of the fee may be refunded as follows:

[Revise item 4.7.1a as follows:]

a. If service is discontinued any time within the first 3 months of the service period, then one-half of the fee is refunded, except that none of the fee is refunded under the 3-month payment option.

* * * * *

[Revise item 4.7.1c as follows:]

c. If service is discontinued and the customer has prepaid for the next quarterly or semiannual service period, then the entire fee for that next period is refunded.

4.7.2 Discontinued Postal Facility

[Revise the second sentence of 4.7.2 as follows:]

* * * For this purpose, one-sixth of a semiannual fee is refunded for each month left in the payment period. For the 3-month payment option, one-third of a 3-month fee is refunded for each month left in the payment. * * *

* * * * *

600 Basic Standards for All Mailing Services

601 Mailability

* * * * *

11.0 Cigarettes and Smokeless Tobacco

* * * * *

11.5 Exception for Business/Regulatory Purposes

* * * * *

11.5.2 Mailing

* * * All mailings under the business/regulatory purposes exception must:

[Revise 11.5.2a as follows:]

a. Be entered in a face-to-face transaction with a postal employee (carrier pickup not permitted) as Express Mail with Hold for Pickup service, Express Mail with an Adult Signature service (see 503.8.0), or Priority Mail with an Adult Signature service;

* * * * *

11.6 Exception for Certain Individuals

* * * * *

11.6.2 Mailing

* * * Each mailing under the certain individuals exception must:

[Revise 11.6.2a as follows:]

a. Be entered (carrier pickup not permitted) as Express Mail with Hold for Pickup service, Express Mail with an Adult Signature service (see 503.8.0), or Priority Mail with an Adult Signature service; unless shipped to APO/FPO/DPO addresses under 11.6.4.

* * * * *

[Revise 11.6.2c as follows:]

c. Bear the full name and mailing address of the sender and recipient on the Express Mail or Priority Mail label;

* * * * *

11.6.3 Delivery

Delivery under the certain individuals exception is made under the following conditions:

* * * * *

[Revise 11.6.3c as follows:]

c. For Express Mail or Adult Signature articles, once age is established, the recipient must sign PS Form 3849 in the appropriate signature block.

* * * * *

11.7 Consumer Testing Exception

* * * * *

11.7.2 Mailing

* * * Mailings must be tendered under the following conditions:

* * * * *

b. All mailings under the consumer testing exception:

[Revise 11.7.2b1 as follows:]

1. Be entered in a face-to-face transaction with a postal employee (carrier pickup not permitted) as Express Mail with Hold for Pickup service, Express Mail with Adult Signature Restricted Delivery service (see 503.8.0), or Priority Mail with Adult Signature Restricted Delivery service;

* * * * *

[Revise 11.7.2b4 as follows:]

4. Must bear the full mailing addresses of both the sender and recipient on the Express Mail or Priority Mail label (the name and address of the sender must match exactly those listed on the customer's application on file with the PCSC);

* * * * *

11.7.3 Delivery

Mailings bearing the markings for consumer testing can only be delivered to the named addressee under the following conditions:

* * * * *

[Revise 11.7.3c as follows:]

c. The name on the identification must match the name of the addressee on the Express Mail or Priority Mail label.

* * * * *

602 Addressing

* * * * *

[Revise the title of 4.0 as follows:]

4.0 Detached Address Labels (DALs) and Detached Marketing Labels (DMLs)

[Revise the title of 4.1 as follows:]

4.1 DAL and DML Use

[Revise the title and text of 4.1.1 as follows:]

4.1.1 Definitions

For these standards, item(s) refers to the types of mail described in 4.1.2 through 4.1.4. DALs in their basic form may be used by mailers as an optional method of addressing and printing of postage indicia on the DALs instead of printing addresses and postage on the items mailed with the DALs. DMLs are types of DALs, but also include advertising. For purposes of standards in 4.0, the term “DALs” (or “DAL”) will be used to mean both DALs and DMLs, unless a standard specifically states that it applies only to DMLs.

* * * * *

[Revise the title and text of 4.1.3 as follows:]

4.1.3 Standard Mail Marketing Parcels

DALs may be used with Standard Mail Marketing parcels mailed at carrier route, high density, or saturation parcel prices.

* * * * *

4.1.5 Alternative Addressing Format

[Revise the text of 4.1.5 as follows:]

DALs may have alternative addressing formats under 3.0, subject to the applicable standards.

* * * * *

4.2 Label Preparation

* * * * *

4.2.5 Other Information

[Revise the text of 4.2.5 as follows:]

In addition to the information described in 4.2.2 and 4.2.4 and an indicium of postage payment, only official pictures and data circulated by the National Center for Missing and Exploited Children may appear on the front of a DAL. Advertising may appear on a DML, under the following conditions:

a. The DMLs must meet the physical characteristics for DALs under 4.2.1 and have a correct POSTNET or Intelligent Mail barcode with an 11-digit routing code (see 708.4.0).

b. The advertising must not obstruct or overlap any of the required elements on the front of a DML.

c. The advertising must be to the left of the delivery address and placed to maintain required clear spaces around the address and postage payment (see 202 and 1.0).

* * * * *

4.5 Postage

4.5.1 Prices

[Revise the text of 4.5.1 as follows:]

DAL mailings are not eligible for automation prices, but the pieces may qualify for carrier route prices, subject to applicable standards. Mailers must pay a surcharge for each DAL used with Standard Mail flats. See Notice 123-Price List for prices.

4.5.2 Postage Computation and Payment

[Revise the introductory text of 4.5.2 as follows:]

Postage is computed based on the combined weight of the item and the accompanying DAL. If the number of DALs and items mailed is not identical, the number of pieces used to determine postage is the greater of the two. No postage refund is allowed in these situations. In addition, these methods of postage payment apply:

* * * * *

[Revise items 4.5.2b and 4.5.2c as follows:]

b. Standard Mail flats and parcels (at the applicable postage) and Bound Printed Matter pieces must be paid by permit imprint, which must appear on each DAL.

c. A surcharge applies to each DAL (including DMLs) used in a Standard Mail flats mailing.

* * * * *

604 Postage Payment Methods

* * * * *

2.0 Stamped Stationery

* * * * *

2.3 Other Stationery

2.3.1 Stamped Cards

[Revise 2.3.1 as follows:]

Stamped cards are available as single stamped cards, double (reply) stamped cards, and in sheets of 40 for customer imprinting. Single and double stamped cards are 3½ inches high by 5½ inches long. Stamped cards are also available in 8½ inches by 11-inches perforated and non-perforated sheets with four 4¼ inches by 5½ inches cards. Sheets must be cut so that the stamp is in the upper right corner of each card. The USPS offers personalized stamped cards (cards imprinted with a return address).

* * * * *

[Add the new 2.3.4 as follows:]

2.3.4 Printing Specifications

The printing specifications for personalized stamped envelopes also apply to stamped postcards (see 2.2.3).

* * * * *

[Add new item 2.4 as follows:]

2.4 Stamp Fulfillment Service

2.4.1 Description

Stamp Fulfillment Services provides the fulfillment of stamp orders placed by customers via mail, phone, fax, or online to the Stamp Fulfillment Services organization. Stamp Fulfillment Services charges shipping and handling fees associated with fulfilling stamp orders. The fees vary depending on the dollar amount of the order. All prices and fees are listed on Notice 123—Price List.

* * * * *

700 Special Standards

* * * * *

705 Advanced Preparation and Special Postage Payment Systems

* * * * *

6.0 Combining Mailings of Standard Mail, Package Services, and Parcel Select Parcels

[Revise title of 6.1 by deleting the reference to NFMs to read as follows:]

6.1 Basic Standards for Combining Parcels

6.1.1 Basic Standards

[Revise text in the first sentence of 6.1.1 by deleting NFMs to read as follows:]

Standard Mail parcels, Package Services, and Parcel Select parcels in combined mailings must meet the following standards:

* * * * *

[Revise title of 6.2 by deleting reference to NFMs to read as follows:]

6.2 Combining Parcels—DNDC Entry

[Revise 6.2 by deleting reference to NFMs 6 ounces or more to read as follows:]

Mailers may combine Standard Mail machinable parcels with Package Services and Parcel Select machinable parcels for entry at an NDC when authorized by the USPS under 6.1.4.

* * * * *

6.2.2 Additional Standards

[Revise the introductory text of 6.2.2 by deleting references to NFMs 6 ounces or more to read as follows:]

Standard Mail machinable parcels and Package Services and Parcel Select machinable parcels prepared for DNDC entry must meet the following conditions in addition to the basic standards in 6.1:

[Revise text of 6.2.2a by deleting references to NFMs to read as follows:]

a. Each piece in a combined Standard Mail, Package Services, and Parcel Select mailing must meet the criteria for machinable parcels in 401.1.5.

* * * * *

[Revise text of 6.2.2e by deleting references to NFMs to read as follows:]

e. Mailers must deposit combined machinable parcels at NDCs or ASFs (see Exhibit 6.2.3) under applicable standards in 15.0.

* * * * *

6.3 Combining Parcels—Parcel Select ONDC Presort, NDC Presort, DSCF, and DDU Prices

6.3.1 Qualification

Combination requirements for specific discounts and prices are as follows:

[Revise items 6.3.1a through d by deleting references to NFMs 6 ounces or more to read as follows:]

a. When claiming Parcel Select ONDC Presort discounts, machinable Standard Mail parcels may be combined with machinable Parcel Select and Package Services parcels under 6.3 only if the mailpieces are palletized and each pallet or pallet box contains a 200-pound minimum.

b. When claiming Parcel Select NDC Presort discounts, machinable Standard Mail parcels may be combined with machinable Parcel Select and Package Services parcels under 6.3 only if the mailpieces are palletized and each pallet or pallet box contains a 200 pound minimum.

c. When claiming the DSCF price for Parcel Select or Bound Printed Matter parcels, Standard Mail parcels may be combined with Package Services and Parcel Select parcels under 6.3.

d. All Standard Mail parcels may be combined with Package Services and Parcel Select parcels prepared for DDU prices under 6.3.

* * * * *

6.4 Combining Package Services, Parcel Select, and Standard Mail—Optional 3-Digit SCF Entry

* * * * *

6.4.2 Qualifications and Preparation

[Revise the introductory paragraph of 6.4.2 by deleting references to NFMs to read as follows:]

Parcel Select, Bound Printed Matter machinable parcels, and Standard Mail parcels may be prepared for entry at designated SCFs under these standards:

[Revise item 6.4.2a by deleting references to NFMs to read as follows:]

a. Standard Mail parcels that weigh less than 2 ounces and Standard Mail parcels that are tubes, rolls, triangles, and similar pieces may not be included.

[Revise item 6.4.2b as follows:]

b. Mailers must prepare pieces on 3-digit pallets or pallet boxes, or unload and physically separate the pieces into containers as specified by the destination facility.

* * * * *

[Revise item 6.4.2d by deleting references to NFMs to read as follows:]

d. Standard Mail machinable parcels are eligible for the NDC presort level, DNDC price; irregular parcels are eligible for the 3-digit presort level, DSCF price.

* * * * *

8.0 Preparing Pallets

* * * * *

8.10 Pallet Presort and Labeling

* * * * *

8.10.2 Periodicals—Bundles, Sacks, or Trays

[Add a new last sentence in the introductory text to read as follows:]

* * * Prepare pallets in the following sequence:

* * * * *

[Revise the introductory text of item 8.10.2k to read as follows:]

k. Mixed ADC, optional, permitted for sacks and trays, and bundles of flats. Pallet may contain carrier route, automation price, and/or presorted price mail. Pallets must not contain origin mixed ADC (OMX) sacks. Labeling:

* * * * *

8.10.3 Standard Mail—Bundles, Sacks, or Trays

[Revise the third sentence of 8.10.3 for clarity to read as follows:]

* * * For irregular parcels, use this preparation only for pieces in sacks or in carrier route bundles. * * *

* * * * *

[Revise the title and introductory text of 8.10.6 to read as follows:]

8.10.6 Standard Mail, Package Services, Parcel Select

Prepare pallets under 8.0 in the sequence below. Unless indicated as optional, all sort levels are required. Combined mailings of Standard Mail, Parcel Select, and Package Services machinable parcels also must meet the standards in 6.0 or 20.0. Label pallets according to Line 1 and Line 2 information below and under 8.6, except for combined mailings that include Standard Mail parcels.

[Delete the reference to “NFM” and replace the reference to “STD MACH” with “STD/PSVC MACH.” to revise item 8.10.6a as follows:]

a. 5-digit scheme, required. Pallet must contain parcels for the same 5-digit scheme under L606. For 5-digit destinations not part of L606, or for which scheme sorts are not performed, prepare 5-digit pallets under 8.10.6b. Labeling:

1. Line 1: Use L606.

2. Line 2: “STD/PSCV MACH 5D;,” followed by “SCHEME” (or “SCH”).

[Delete the reference to “NFM” and replace the reference to “STD MACH” with “STD/PSVC MACH.” to revise item 8.10.6b as follows:]

b. 5-digit, required. Pallet must contain parcels only for the same 5-digit ZIP Code. Labeling:

1. Line 1: city, state, and 5-digit ZIP Code destination (see 8.6.4c for overseas military mail).

2. Line 2: “STD/PSVC MACH 5D”

[Delete the reference to “NFM” and replace the reference to “STD MACH” with “STD/PSVC MACH.” to revise item 8.10.6c as follows:]

c. ASF, optional, but required for DNDC prices. Not available for the Buffalo NY ASF in L602. Pallets must contain only parcels for the 3-digit ZIP Code groups in L602. Labeling:

1. Line 1: Use L602.

2. Line 2: “STD/PSVC MACH ASF.”

[Delete the reference to “NFM” and replace the reference to “STD MACH” with “STD/PSVC MACH.” to revise item 8.10.6d as follows:]

d. NDC, required. Pallets must contain only parcels for the 3-digit ZIP Code groups in L601. Labeling:

1. Line 1: Use L601.

2. Line 2: “STD/PSVC MACH NDC.”

[Delete the reference to “NFM” and replace the reference to “STD MACH” with “STD/PSVC MACH.” to revise item 8.10.6e as follows:]

e. Mixed NDC, optional. Labeling:

1. Line 1: “MXD” followed by information in L601, Column B, for NDC serving 3-digit ZIP Code prefix of entry Post Office (or labeled to plant serving entry Post Office if authorized by processing and distribution manager).

2. Line 2: “STD/PSVC MACH WKG.,”

[Revise title and introductory text of 8.10.7 to remove references to Not Flat-Machinables and NFMs and revise as follows:]

8.10.7 Standard Mail and Parcel Select Lightweight Machinable Parcels

Mailers who palletize machinable parcels must make pallets or pallet boxes when there are 250 pounds or more for the destination levels below for DNDC, DSCF, or DDU prices. When prepared at origin, a 200-pound minimum is required for the NDC price. Prepare pallets under 8.0 in the sequence below. Unless indicated as optional, all sort levels are required. Label pallets according to Line 1 and Line 2 information below and under 8.6.

[Revise items 8.10.7a through f by removing reference to NFMs and revising as follows:]

a. 5-digit scheme, required. Pallet must contain parcels for the same 5-digit scheme under L606. For 5-digit destinations not part of L606, prepare 5-digit pallets under 8.10.7b, Labeling:

1. Line 1: Use L606.

2. Line 2: “STD/PSLW MACH 5D.

b. 5-digit, required. Pallet must contain parcels only for the same 5-digit ZIP Code. Labeling:

1. Line 1: city, state, and 5-digit ZIP Code destination (see 8.6.4c for overseas military mail).

2. Line 2: “STD/PSLW MACH 5D.,”

c. ASF, optional, but required for DNDC prices. Not available for the Buffalo NY ASF in L602. Pallets must contain only parcels for the 3-digit ZIP Code groups in L602. Labeling:

1. Line 1: Use L602.

2. Line 2: “STD/PSLW MACH ASF.”

d. NDC, required. Pallets must contain only parcels for the 3-digit ZIP Code groups in L601. Labeling:

1. Line 1: Use L601.

2. Line 2: “STD/PSLW MACH NDC.”

e. Origin NDC (required); no minimum; labeling:

1. Line 1: L601, Column B.

2. Line 2: “STD/PSLW MACH NDC.”

f. Mixed NDC, optional; no minimum. Labeling:

1. Line 1: “MXD” followed by information in L601, Column B, for NDC serving 3-digit ZIP Code prefix of entry Post Office (or labeled to plant serving entry Post Office if authorized by processing and distribution manager).

2. Line 2: “STD/PSLW MACH WKG.”

[Revise title and introductory text of 8.10.8 as follows:]

8.10.8 Standard Mail and Parcel Select Lightweight Irregular Parcels Weighing 2 Ounces or More

Mailers who palletize unbundled or unsacked irregular parcels must make pallets or pallet boxes when there are 250 pounds or more for the destination levels below for DNDC, DSCF, or DDU prices. When prepared at origin, a 200 pound minimum is required for the NDC price. Prepare pallets or pallet boxes of irregular parcels (except tubes, rolls, and similar pieces) weighing 2 ounces or more under 8.0 and in the sequence listed below. Label pallets or pallet boxes according to the Line 1 and Line 2 information listed below and under 8.6. Mailers may not prepare tubes, rolls, and similar pieces or pieces that weigh less than 2 ounces on pallets or in pallet boxes, except for pieces in carrier route bundles or in sacks under 8.10.3.

[Revise items 8.10.8a through g by deleting references to NFMs and changing line 2 content as follows:]

a. 5-digit scheme, required. Pallet or pallet box must contain parcels only for the same 5-digit scheme under L606. For 5-digit destinations not part of L606 prepare 5-digit pallets under 8.10.8b. Labeling:

1. Line 1: Use L606.

2. Line 2: “STD/PSLW IRREG 5D; followed by “SCHEME” (or “SCH”).

b. 5-digit, required. * * *. Labeling:

1. Line 1: city, state, and 5-digit ZIP Code destination (see 8.6.4c for overseas military mail).

2. Line 2: “STD IRREG 5D.”

c. SCF, required. * * * Labeling:

1. For Line 1, L002, Column C.

2. For Line 2, “STD/PSLW IRREG SCF.”

d. ASF, optional, but required for DNDC prices. Not available for the Buffalo NY ASF in L602. Pallets must contain only parcels for the 3-digit ZIP Code groups in L602. Labeling:

1. Line 1: Use L602.

2. Line 2: “STD/PSLW IRREG ASF”.

e. NDC, required. Pallets must contain only parcels for the 3-digit ZIP Code groups in L601. Labeling:

1. Line 1: Use L601.

2. Line 2: “STD/PSLW IRREG NDC”.

f. Origin NDC (required); no minimum; labeling:

1. Line 1: L601, Column B.

2. Line 2: “STD/PSLW IRREG NDC”.

g. Mixed NDC, optional. Labeling:

1. Line 1: “MXD” followed by information in L601, Column B, for NDC serving 3-digit ZIP Code prefix of entry Post Office (or labeled to plant serving entry Post Office if authorized by processing and distribution manager).

2. Line 2: “STD/PSLW IRREG WKG”.

* * * * *

[Delete current 8.10.9, Standard Mail Not Flat-Machinable Pieces Weighing Less Than 6 Ounces, in its entirety.]

* * * * *

8.17 Pallets of Machinable Parcels

8.17.1 DNDC Price

[Revise text of 8.17.1 to read as follows:]

Pieces may be eligible for the 5-digit price only when prepared under 8.10.7a or 8.10.7b and entered at a destination facility under 446.

* * * * *

21.0 Optional Combined Parcel Mailings

21.1 Basic Standards for Combining Parcel Select, Package Services, and Standard Mail Parcels

21.1.1 Basic Standards

[Revise first sentence in 21.1.1 by deleting the references to NFMs to read as follows:]

Package Services parcels, Parcel Select parcels, and Standard Mail parcels in a combined parcel mailing must meet the following standards:

* * * * *

d. Combined mailings must meet the following minimum volume requirements:

[Revise item d1 to delete the reference to NFMs to read as follows:]

1. Standard Mail—Minimum 200 pieces or 50 pounds of Standard Mail parcels.

* * * * *

21.2 Price Eligibility

* * * * *

21.2.2 Price Application

Apply prices based on the criteria in 400 and the following standards:

[Revise item 21.2.2a by deleting the reference to NFMs to read as follows:]

a. Standard Mail parcels are based on the container level and entry (see 443.5.0.

* * * * *

21.3 Mail Preparation

21.3.1 Basic Standards

Prepare combined mailings as follows:

a. Different parcel types must be prepared separately for combined parcel mailings as indicated below:

[Revise item a1 through a4 by deleting the references to NFMs to read as follows:]

1. Standard Mail, Parcel Select, and Package Services machinable parcels. Use “STD/PSVC MACH” for line 2 content labeling.

2. Standard Mail, Parcel Select, and Package Services irregular parcels at least 2 ounces and up to (but not including) 6 ounces, except for tubes, rolls, triangles, and other similarly irregularly-shaped pieces. Use “STD/PSVC” for line 2 content labeling.

3. Standard Mail, Parcel Select, and Package Services tubes, rolls, triangles, and similarly irregularly-shaped parcels; and all parcels weighing less than 2 ounces. Use “STD/PSVC IRREG” for line 2 content labeling.

4. Combine all parcel types in 5-digit and 5-digit scheme containers. Use “STD/PSVC PARCELS” for line 2 content labeling.

* * * * *

[Revise title of 21.3.2 to read as follows:]

21.3.2 Combining Standard Mail, Parcel Select, and Package Services Machinable Parcels

* * * * *

[Revise title of 21.3.3 to read as follows:]

21.3.3 Combining Standard Mail, Parcel Select, and Package Services Apps-Machinable Parcels

* * * * *

[Revise title of 21.3.4 to read as follows:]

21.3.4 Combining Standard Mail (Under 2 Ounces), Parcel Select, and Package Services Other Irregular Parcels

* * * * *

23.0 Full-Service Automation Option

* * * * *

[Revise the title of 23.2 as follows:]

23.2 General Eligibility Standards

[Renumber current 23.3 and 23.4 as new 23.4 and 23.5, and add new 23.3 as follows:]

23.3 Eligibility for Waiver of Annual Fees and Waiver of Deposit of Permit Imprint Mail Restrictions

Mailers who present only full-service automation mailings (of First-Class Mail cards, letters, and flats, Standards Mail letters and flats, or Bound Printed Matter flats) that contain 90 percent or more pieces eligible for full-service automation prices are eligible for the following exceptions to standards:

a. The annual presort mailing or destination entry fees, as applicable, will be waived for qualified full-service mailings.

b. Mailers may present qualified full-service mailings with mailpieces bearing a current valid permit imprint for acceptance at any USPS acceptance office that has PostalOne! acceptance functions without payment of any additional permit imprint application or annual mailing fees.

c. If any mailing (of the classes and shapes of mail in 23.3) presented under a mailing permit does not contain at least 90 percent of the pieces qualifying for full-service automation prices:

1. The mailer must pay the applicable annual fee before that mailing may be accepted.

2. The provision in 23.3b for presentation of mailings at multiple offices is discontinued for all mailings presented under the applicable permit imprint.

* * * * *

707 Periodicals

* * * * *

2.0 Price Application and Computation

2.1 Price Application

* * * * *

2.1.2 Applying Outside-County Piece Prices

* * * Apply piece prices for Outside-County mail as follows:

* * * * *

c. Nonmachinable flats:

* * * * *

[Revise item 2.1.2c2 as follows:]

2. Apply the “Nonmachinable Flats—Nonbarcoded” prices to pieces that meet the standards for nonmachinable flats in 707.26 but do not include a barcode.

* * * * *

708 Technical Specifications

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

CLASS AND MAILING CIN HUMAN-READABLE CONTENT LINE

* * * * *

STANDARD MAIL

[Delete the following heading and the six rows beneath it in their entirety.]

STD Not Flat-Machinable Pieces Less Than 6 Ounces—Nonautomation

[Delete the following heading and the five rows beneath it in their entirety.]

STD Not Flat-Machinable Pieces 6 Ounces Or More—Nonautomation

* * * * *

We will publish an appropriate amendment to 39 CFR part 111 to reflect these changes if our proposal is adopted.

Stanley F. Mires,
Attorney, Legal Policy & Legislative Advice.

[FR Doc. 2011-27365 Filed 10-21-11; 8:45 am]

BILLING CODE 7710-P